NATIONAL ARCHIVES AND RECORDS ADMINISTRATION

Nixon Presidential Historical Materials: Opening of Materials

AGENCY: National Archives and Records Administration.

ACTION: Notice of opening of additional materials.

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR part 1275), the Agency has identified, inventoried, and prepared for public access approximately 154 hours of Nixon White House tape recordings and textual materials among the Nixon Presidential Historical Materials.

DATES: The Richard Nixon Presidential Library and Museum intends to make the materials described in this notice available to the public on Tuesday, June 23, 2009. The tape recordings will be made available on the Web at http://www.nixonlibrary.gov beginning at 9 a.m. (EDT)/6 a.m. (PDT). The textual materials will be made available at the National Archives building at College Park, MD beginning at 11 a.m. (EDT) with the exception of the White House Central Files of Kenneth Cole which will be made available at the Richard Nixon Library and Museum's primary location in Yorba Linda, CA beginning at 9 a.m. (PDT). In accordance with 36 CFR 1275.44, any person who believes it necessary to file a claim of legal right or privilege concerning access to these materials must notify the Archivist of the United States in writing of the claimed right, privilege, or defense before June 15, 2009.

ADDRESSES: The Richard Nixon Presidential Library and Museum, a division of the National Archives, has facilities in the Archives II Building at 8601 Adelphi Road, College Park, Maryland besides its primary location at 18001 Yorba Linda Blvd., Yorba Linda, California. Listening stations for the tape recordings will be available at both locations. Researchers at either facility must have a NARA researcher card which they may obtain when they arrive at the facility. Petitions asserting a legal or constitutional right or privilege which would prevent or limit access must be sent to the Archivist of the United States, National Archives at College Park, 8601 Adelphi Road, College Park, Maryland 20740-6001.

FOR FURTHER INFORMATION CONTACT: Timothy Naftali, Director, Richard Nixon Presidential Library and Museum, 714-983-9121 or 301-837-3117.

SUPPLEMENTARY INFORMATION: The following materials will be made available in accordance with this notice:

1. NARA is proposing to open approximately 994 conversations which were recorded at the Nixon White House in January and February 1973. These conversations total approximately 154 hours of listening time. This is the thirteenth opening of Nixon White House tapes since 1980. There are no transcripts for these tapes. Tape subject logs, prepared by NARA, are offered for public access as a finding aid to the tape segments and a guide for the listener. There is a separate tape log entry for each conversation. Each tape log entry includes the names of participants; date and inclusive times of each conversation; location of the conversation; and an outline of the content of the conversation. Listening stations will be available on a first come, first served basis and will also be available on the Web at http://www.nixonlibrary.gov. NARA reserves the right to limit listening time in response to heavy demand.

2. Previously restricted materials. Volume: 10.5 cubic feet. A number of textual materials which were previously withheld from public access have been reviewed for release and/or declassified under the mandatory review provisions of Executive Order 12958, as amended, or in accordance with 36 CFR 1275.56 (Public Access regulations). The materials are from integral file segments for the White House Special Files, Staff Member and Office Files; the National Security Council Files; and the Henry A. Kissinger Office Files.

3. White House Central Files, Staff Member and Office Files. Volume: 8 cubic feet. The White House Central Files Unit was a permanent organization within the White House complex that maintained a central filing and retrieval system for the records of the President and his staff. The Staff Member and Office Files consist of materials that were transferred to the Central Files but were not incorporated into the Subject Files. The following file groups will be made available: Kenneth Cole Files.

4. White House Central Files, Name Files: Volume: <1 cubic foot. The Name Files were used for routine materials filed alphabetically by the name of the correspondent; copies of documents in the Name Files were usually filed by subject in the Subject Files. The Name Files relating to Paul Olsen and Frank Borman will be made available with this opening.

5. White House Central Files, Subject Files. Volume: 3 cubic feet. The White House Central Files Unit was a permanent organization within the White House complex that maintained a central filing and retrieval system for the records of the President and his staff. The Subject Files were arranged according to subject matter and were based on an alphanumerical file scheme of 61 primary categories. Listed below are the integral files segments from the White House Central Files, Subject Files in this opening:

GI Gifts [partial].

ME Messages [partial].

FG 170 National Commission on Fire Prevention and Control.

FG 210 Public Advisory Committee on Trade Policy [empty].

FG 211 Public Land Law Review Commission.

FG 212 Quetico-Superior Committee.

FG 213 Railroad Retirement Board.

FG 214 Renegotiation Board.

FG 215 Securities and Exchange Commission.

FG 219 Southern Interstate Nuclear Board.

FG 220 Subversive Activities Control Board.

6. White House Special Files, Subject Files, Oversize Attachment Files. Volume: 7 cubic feet. The White House Special Files Unit was created within the White House complex to provide a secure storage location for administratively and politically sensitive material, personal material, and material with the President's handwriting. The Subject Files were arranged according to subject matter and were based on an alphanumerical file scheme of 61 primary categories. The Oversize Attachment Files were a means of filing and organizing materials that were too bulky or odd-sized to be placed in a file folder. Listed below are the oversize attachments from the White House Special Files, Subject Files in this opening:

CF OA 1056 FG 6-11-1 Huebner, Lee.

CF OA 354 FG 215 Securities and Exchange Commission.

7. White House Central Files, Oversize Attachment Files. Volume: 1 cubic foot. The White House Central Files Unit was a permanent organization within the White House complex that maintained a central filing and retrieval system for the records of the President and his staff. The Oversize Attachment Files were a means of filing and organizing materials that were too bulky or odd-sized to be placed in a file folder. Listed below are the oversize attachments from the White House Central Files, Oversize Attachment Files in this opening:

OA's (707, 1963, 3269, 3989, 3993, 4580, 4801, 4942, 5118, 5197, 5403, 5717, 8084, 8880, 8974, 9007, 9177, 9194, 9908, 10005, 10111, 10156, 10508, 10589, 10743, 10990, 11604, 11910, 12141, 12319, 13958, 14378 14484).

8. National Security Council Files. Volume: 3 cubic feet. In accordance with the provisions of Executive Order 12958, as amended, several series within the National Security Council files have been systematically reviewed for declassification and the following file groups will be made available:

EC-121 Korea, Shoot Down.

9. The Nixon Library holds three subgroups of Federal Record Group 87: Records of the United States Secret Service. Those relating to the “Installation and Maintenance of the White House Sound Recording System and Tapes,” NC3-87-82-1, consisting of 2.5 cubic feet, will be made available.

Dated: May 8, 2009.
Adrienne Thomas,
Acting Archivist of the United States.

[FR Doc. E9-11515 Filed 5-14-09; 8:45 am]

BILLING CODE 7515-01-P